NATIONAL FOUNDATION ON THE ARTS AND THE HUMANITIES

Institute of Museum and Library Services

Request for Information (RFI): Information Literacy Programs, Resources, and Promising Practices

AGENCY: Institute of Museum and Library Services (IMLS).

ACTION: Request for information (RFI).

SUMMARY: The Institute of Museum and Library Services requests information on programs, resources, and activities designed to strengthen information literacy skills. The agency is particularly interested in programs and activities that can be implemented at the local level, in community organizations such as museums and libraries, to help individuals develop the skills necessary to find, evaluate, use, and create information in meaningful ways. The agency is also interested in tools and approaches that can be adapted to meet the needs of different users.

DATES: Written comments must be submitted via the method provided below, no later than midnight Eastern Time (ET) on Friday, August 18, 2023.

ADDRESSES: Comments must be submitted to: infolitrfi@imls.gov. Include Information Literacy Request for Information (RFI) in the subject line of the message. Multimedia submissions (audio, video, etc.) must be accompanied by a written comment. Respondents may answer as many or as few questions as they wish.

FOR FURTHER INFORMATION CONTACT: Katherine Maas, Institute of Museum and Library Services, or by email at kmaas@imls.gov. Persons who are deaf or hard of hearing (TTY users) can contact IMLS at 202-207-7858 via 711 for TTY-Based Telecommunications Relay Service.

SUPPLEMENTARY INFORMATION:

Background

Individuals are inundated with information in their daily lives. The digital age has contributed to the increased production of information, and navigating our evolving information landscape is increasingly complex. Moreover, continuing changes in technology (e.g., social media, workplace technology, educational technology) make it important for everyone to understand how the availability, exchange, and presentation of information is evolving. Information literacy skills are thus critical for individuals of all ages. Information literacy skills refer to the skills associated with empowering individuals to locate, analyze, evaluate, and use information effectively (e.g., navigating information to learn a new trade or applying information to clarify decision options).

The Consolidated Appropriations Act of 2022 ¹ directed the Institute of Museum and Library Services to explore ways to improve information literacy within communities, including through the creation of a website to disseminate information literacy resources, toolkits, and best practices. The website is primarily intended to support activities within communities as they develop programs and other resources to support local interests and needs.

¹ Consolidated Appropriations Act of 2022: https://www.congress.gov/117/plaws/publ103/PLAW-117publ103.pdf (page 442); Joint Explanatory Statement—Division H: http://docs.house.gov/billsthisweek/20220307/BILLS-117RCP35-JES-DIVISION-H_Part1.pdf (page 142).

Information Requested

IMLS seeks to understand how organizations address and incorporate information literacy skills into local community programs broadly; how information literacy-related resources and programs are applied to specific areas of community concern, including but not limited to community health, safety, and economic well-being; as well as how these resources and programs are adapted and developed to address local demographics, unique community characteristics, and the continually evolving information environment. IMLS also seeks to identify information literacy-related resources and programs that could inform the development of a website to disseminate successful practices on information literacy programs and related tools.

IMLS invites input from stakeholders, experts, communities, and members of the public, including but not limited to libraries, archives, museums, researchers in academia, industry, government library and museum advocacy organizations, nongovernmental and professional organizations, and Federal agencies. A response to every topic or question is not required.

Key Topics and Questions

Topic 1: Information About Community Program Design and Development

A. How has your organization addressed information literacy in its programming, either directly or indirectly? What topics have you connected to information literacy? How have you talked about information literacy in your programming? What has worked best? What would you have liked to have been able to do but couldn't?

B. What kinds of resources and programming have attracted the most interest and engagement within your community, including but not limited to relating to community health, safety, and economic well-being? What resources and programming have generated the least interest and engagement? Please provide examples.

C. What methods do you use to conduct an assessment to understand your community's needs related to information literacy?

D. How do you design and adapt information literacy resources and programming to meet the needs and preferences of different demographic groups within your community (e.g., adult learners, people with limited English language skills, people with visual or auditory impairments, people with limited access to or skills with digital technology)?

E. Describe any toolkits or other readily available resources related to information literacy that you currently use or have used in your programming. Please indicate the source of these resources (e.g., government website, local health department, etc.).

Topic 2: Information About Leveraging Partnerships in Community-level Programs.

A. How do organizations in your community collaborate to address local information literacy needs?

B. Describe how you work with other organizations to develop and/or share information literacy-related resources and/or programming. What else can be done to support the success of these partnerships?

C. Please share successful practices for disseminating information resources within your community and building effective partnerships.

Topic 3: Information About Financial Support (e.g., Grant Funding)

A. What funding have you received in the past to support your information literacy programs and activities (e.g., grant funding, institutional funding, etc.)? Describe successful approaches you have used to make it easier to access funding to advance information literacy.

B. Are there areas of work for which you have not been able to identify funding (i.e., gaps in funding)? What challenges with funding the full project lifecycle have you experienced?

Topic 4: Evaluation of Your Information Literacy Programs

A. How do you evaluate the success or impact of your programs? Please describe any specific evaluation tools that you use.

B. What metrics do you use to evaluate your program?

Submitting a Response

Comments must be submitted to: infolitrfi@imls.gov and must include Information Literacy Request for Information (RFI) in the subject line of the message. Multimedia submissions (audio, video, etc.) must be accompanied by a written comment. It is recommended that attachments with file sizes exceeding 25MB be compressed (i.e., zipped) to ensure message delivery.

Responses containing references, research studies, data visualizations, community program details and evaluations, and other empirical data should include electronic links to the referenced materials or be attached to the email. Responses containing attached or linked reference materials with multiple pages should include page numbers where relevant information can be found. These materials and artifacts should not reference programs or materials that were created or implemented before 2018 and have not been updated since then. All information should be provided at a level of granularity that preserves the privacy of users. IMLS is accepting information literacy resources and tools in other languages and/or in an accessible format. A response to every topic or question is not required.

This RFI is for information and planning purposes only and should not be construed as a policy, solicitation for applications, or as an obligation on the part of the United States Government to provide support for any ideas identified in response to it. Responses to this RFI are voluntary. Please note that the Government will not pay for the preparation of any information submitted or for its use of that information. Please do not include any propriety, classified, confidential, or sensitive information in your response. Information obtained as a result of this RFI may be used by the Government at its discretion, including in public websites and reports. Contractor support personnel may be used to review responses to this RFI. IMLS may or may not choose to contact individual responders. Such communications would be for the sole purpose of clarifying statements in written responses.

Dated: July 19, 2023.
Suzanne Mbollo,
Grants Management Specialist, Institute of Museum and Library Services.

[FR Doc. 2023-15665 Filed 7-24-23; 8:45 am]

BILLING CODE 7036-01-P